DEPARTMENT OF TRANSPORTATION

Office of the Secretary

Notice of Applications for Certificates of Public Convenience and Necessity and Foreign Air Carrier Permits Filed Under Subpart B (formerly Subpart Q) During the Week Ending December 21, 2001

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-11198.

Date Filed: December 18, 2001.

Due Date for Answers, Conforming Applications, or Motion to Modify Scope: January 8, 2002.

Description: Application of Caribbean Star Airlines, Inc., pursuant to 49 U.S.C. section 41102 and subpart B, requesting issuance of a certificate of public convenience and necessity to engage in scheduled interstate air transportation.

Docket Number: OST-2001-11206.

Date Filed: December 19, 2001.

Due Date for Answers, Conforming Applications, or Motion to Modify Scope: January 9, 2002.

Description: Application of Freedom Airlines, Inc., pursuant to 49 U.S.C. section 41102 and subpart B, requesting a certificate of public convenience and necessity to engage in scheduled interstate air transportation of persons, property and mail.

Docket Number: OST-2001-11230.

Date Filed: December 21, 2001.

Due Date for Answers, Conforming Applications, or Motion to Modify Scope: January 11, 2002.

Description: Application of Transcarga Intl. Airways, C.A., pursuant to 49 U.S.C. section 41302, 14 CFR parts 211 and 212 and subpart B, requesting issuance of a foreign air carrier permit to engage in charter (non-scheduled) foreign air transportation of property and mail between a point or points in Venezuela, on the one hand, and a point or points in the United States, to include: Miami, Florida; New York, New York; Houston, Texas; Aguadilla, Puerto Rico; and, San Juan, Puerto Rico.

Docket Number: OST-2001-11235.

Date Filed: December 21, 2001.

Due Date for Answers, Conforming Applications, or Motion to Modify Scope: January 11, 2002.

Description: Application of Ogden Flight Services Group, Inc., pursuant to 49 U.S.C. section 41102 and subpart B, requesting a certificate of public convenience and necessity to engage in foreign charter air transportation of persons, property and mail.

Dorothy Y. Beard,
Federal Register Liaison.

[FR Doc. 02-1156 Filed 1-15-02; 8:45 am]

BILLING CODE 4910-62-P